ENVIRONMENTAL PROTECTION AGENCY

[FRL-7167-2]

Proposed CERCLA Administrative Cost Recovery Settlement Pursuant to the Comprehensive Environmental Response, Compensation, and Liability Act; Environmental Waste Resources Site, Coal City, IL

AGENCY: Environmental Protection Agency.

ACTION: Notice; Request for Public Comment.

SUMMARY: In accordance with Section 122(i) of the Comprehensive Environmental Response, Compensation, and Liability Act, as amended (“CERCLA”), 42 U.S.C. 9622(i), notice is hereby given of a proposed administrative cost recovery settlement concerning the Environmental Waste Resources, Inc., facility (“Site”) located near Coal City, Illinois. The settling parties are listed in the Supplementary Information portion of this Notice. The settlement is designed to resolve the liability of the settling parties for response costs the United States Environmental Protection Agency (“U.S. EPA” or “Agency”) incurred responding to the release or threat of release of hazardous substances from the Site. The settlement requires the settling parties to pay $136,457 to the Hazardous Substances Superfund. The settlement includes a covenant from U.S. EPA not to sue the settling parties pursuant to Section 107 of CERCLA, 42 U.S.C. 9607, to recover Past Response Costs. U.S. EPA has the authority to enter into this administrative settlement agreement pursuant to Section 122(h)(1) of CERCLA, 42 U.S.C. 9622(h)(1). For thirty (30) days following the date of publication of this notice the Agency will receive written comments relating to the settlement. The Agency will consider all comments received and may modify or withdraw its consent to the settlement if comments received disclose facts or considerations which indicate that the settlement is inappropriate, improper, or inadequate. The Agency's response to any comments received will be available for public inspection at U.S. EPA, Region 5, Superfund Division Record Center, 77 West Jackson Boulevard, 7th Floor, Chicago, Illinois 60604.

DATES: Comments must be submitted 30 days following the date of publication of this notice.

ADDRESSES: The proposed Administrative Order on Consent (“AOC”) embodying the settlement agreement and additional background information relating to the settlement are available for public inspection at the U.S. EPA, Region 5, Superfund Division Record Center, 77 West Jackson Boulevard, 7th Floor, Chicago, Illinois 60604. A copy of the proposed AOC may be obtained from Craig Melodia (address see below). Comments should reference the Environmental Waste Resources Site.

FOR FURTHER INFORMATION CONTACT: Craig Melodia, Office of Regional Counsel, Mail Code C-14J, U.S. EPA, 77 West Jackson Boulevard, Chicago, Illinois 60604.

SUPPLEMENTARY INFORMATION:

A. Background

Environmental Waste Resources, Inc. (“EWR”), a Connecticut corporation, operated a Resource Conservation and Recovery Act-permitted treatment, storage, and recycling facility at the 26-acre Site from 1976 to 1997. During its operation EWR accepted hazardous and nonhazardous waste in bulk and container shipments. On July 8, 1997, EWR filed a voluntary petition under Chapter 11 of the U.S. Bankruptcy Act (Case No. 97-32784). On February 3, 1998, the Chapter 11 proceeding converted into a Chapter 7 proceeding to liquidate the Debtor's assets (Case No. 97-51487). When EWR's bankruptcy proceeding converted to a Chapter 7 proceeding, EWR abandoned the Site, including hazardous substances, pollutants and contaminants. This waste remained on the Site in drums, some of which were deteriorating, and in the bulk tanks. Waste containing elevated concentrations of volatile organic compounds (“VOCs”) as well as lower concentrations of other VOCs and semivolatile organic compounds (“SVOCs”) was stored in drums and tanks on the Site. Additionally, approximately 40 compressed gas cylinders, many of which contained flammable gases, were left in outdoor areas of the Site. Numerous laboratory chemicals that included concentrated acids, bases, flammables, oxidizers, poisons, and radioactive material were left in the laboratory building on the Site.

Shortly after EWR filed for bankruptcy the Illinois Environmental Protection Agency (“IEPA”) conducted a site investigation. That investigation prompted IEPA to refer the Site to U.S. EPA for response actions. From March 3 to March 6, 1998, U.S. EPA and its Superfund Technical Assessment and Response Team (“START”) contractor conducted an emergency site assessment. The site assessment identified 831 full drums labeled as containing both hazardous and non-hazardous waste; several hundred empty and partially full drums stored in three semi-trailers; 23 aboveground tanks in outdoor tank farms, most of which were full (capacity of 10,000 to 50,000 gallons each); four aboveground tanks within the process building; 29 compressed gas cylinders; and a variety of laboratory chemicals. Several leaking drums were also identified during the site assessment.

On March 7, 1998, U.S. EPA and its emergency response contractor mobilized to the Site to conduct an emergency response. A total of nine leaking 55-gallon drums were over packed, semi-trailers containing empty and partially full drums were investigated, and missing bolts were replaced on a storage tank man-way. In addition, U.S. EPA's contractor provided 24-hour security at the Site.

On December 22, 1998, the U.S. EPA, Region 5, Superfund Division Director signed an AOC with 21 parties (“AOC parties”) to perform a time-critical removal action and to reimburse U.S. EPA for oversight costs associated with overseeing the removal. The AOC parties took control of the Site and began providing site security on February 8, 1999. The removal took place from April 21, 1999, until September 3, 1999. The AOC parties' final report was issued on October 1, 1999, and stated that over 300,000 gallons of liquid and solid waste, 928 drums, 257 containers of laboratory hazardous substances, and 48 compressed gas cylinders had been removed from the Site. According to the final report, the AOC parties spent $1,186,894 performing the removal. In addition, the AOC parties paid $163,393 to U.S. EPA in oversight costs.

B. Settling Parties

The parties to this proposed AOC are: Warner-Lambert; Eastman Chemical Company and its subsidiaries, including Eastman Company; Chicago Specialty, Inc.; Release International/Rexam Release, Inc.; Valspar Corporation; Esco Co. Limited Partnership; ACME Borden; Morton International, Inc.; Coleman Chemical, Inc.; Mallinckrodt Specialty Chemical; Northwestern Flavors, Inc.; Viskase Corp.; Quebecor Printing Mt. Morris, Inc.; Libra Industries, Inc.; Allied Tube & Conduit; Jefferson Smurfit Corporation; Lyon Metal Products; Mozel, Inc.; Chicago Steel Container Corp.; Precision Coatings, Inc.; and International Paper.

C. Description of Settlement

The proposed AOC is a cash settlement to reimburse the Hazardous Waste Superfund for costs U.S. EPA incurred conducting the emergency removal action at the Site. The proposed AOC calls for the settling parties to pay $136,457 of U.S. EPA's total remaining costs of $243,925 (“past costs”). The settling parties have already paid $163,393 in oversight costs. The proposed settlement compromises U.S. EPA's claim for the remaining costs in recognition of the settling parties' cooperation in conducting the time-critical removal at the Site, and in recognition of the substantial share of liability EWR is responsible for as the owner and operator of the Site. Since EWR is in bankruptcy and did not participate in the removal, or reimburse U.S. EPA for its oversight costs, the settling parties have contributed more than their fair share. In recognition of this fact U.S. EPA would forgive $107,468 of its past costs under the proposed settlement.

Dated: March 22, 2002.
Wendy Carney,
Acting Director, Superfund Division.

[FR Doc. 02-8298 Filed 4-4-02; 8:45 am]

BILLING CODE 6560-50-P